DEPARTMENT OF HEALTH AND HUMAN SERVICES

Centers for Disease Control and Prevention

[Docket Numbers as Follow]

Closed-Circuit Self-Contained Breathing Apparatus—NIOSH Docket # 039; Supplied Air Respirators—NIOSH Docket # 083; Reevaluation of NIOSH Limitations on and Precaution for Safe Use of Positive-Pressure Closed-Circuit Self-Contained Breathing Apparatus—NIOSH Docket # 123; CBRN APR Mechanical Connector Design—NIOSH Docket # 139

AGENCY: The National Institute for Occupational Safety and Health (NIOSH), Centers for Disease Control and Prevention (CDC), Department of Health and Human Services (HHS).

ACTION: Notice of public meeting.

SUMMARY: The National Institute for Occupational Safety and Health (NIOSH) of the Centers for Disease Control and Prevention (CDC) announces the availability of the following public meeting to discuss current respirator standards development projects for Closed-Circuit Self-Contained Breathing Apparatus; Supplied Air Respirators; Reevaluation of NIOSH Limitations on and Precaution for Safe Use of Positive-Pressure Closed-Circuit Self-Contained Breathing Apparatus; and the Mechanical Connector Design Used in the Chemical Biological Radiological and Nuclear (CBRN) Air-Purifying Respirator (APR).

Authority: Occupational Safety and Health Act, 29 U.S.C. 651 et seq. There will be an opportunity for discussion following NIOSH's presentations and an accompanying poster session.

Public Meeting Time and Date: 8:30 a.m.-4:30 p.m. EDT, August 20, 2008. On-site registration will be held from 7:45 a.m. until 8:30 a.m.

Place: Sheraton Station Square, 300 West Station Square Drive, Pittsburgh, Pennsylvania 15219-1122. Interested parties should make hotel reservations directly with the Sheraton Station Square, telephone (412) 803-3865, before the cut-off date of July 22, 2008. You must reference the NIOSH/NPPTL public meeting to receive the special group rate of $108.00 per night that has been negotiated for meeting guests. Driving directions can be found at http://www.starwoodhotels.com/sheraton/property/area/directions.html?propertyID=693.

Status: The meeting will be open to the public, limited only by the space available. The meeting room accommodates approximately 200 people.

Requests to make presentations at the public meeting should be mailed to the NIOSH Docket Office, Robert A. Taft Laboratories, 4676 Columbia Parkway, M/S C34, Cincinnati, Ohio 45226, telephone (513) 533-8303, facsimile (513) 533-8285, or e-mailed to nioshdocket@cdc.gov. All requests to present should contain the name, address, and telephone number, relevant business affiliations of the presenter, a brief summary of the presentation, and the approximate time requested for the presentation. Oral presentations should be limited to 15 minutes.

After reviewing the requests for presentations, NIOSH will notify each presenter of the approximate time that their presentation is scheduled to begin. If a participant is not present when their presentation is scheduled to begin, the remaining participants will be heard in order. At the conclusion of the meeting, an attempt will be made to allow presentations by any scheduled participants who missed their assigned times. Attendees who wish to speak but did not submit a request for the opportunity to make a presentation may be given this opportunity at the conclusion of the meeting, at the discretion of the presiding officer.

Background: National Personal Protective Technology Laboratory (NPPTL), National Institute for Occupational Safety and Health (NIOSH) will present information to attendees concerning the development of the concepts and priorities being considered for the development of standards for the various classes of respirators. Participants will be given an opportunity to ask questions and to present individual comments that they may wish to have considered.

Contact Person for Technical Information: Jonathan V. Szalajda, General Engineer, The National Personal Protective Technology Laboratory (NPPTL), Policy and Standards Development Branch, Post Office Box 18070, 626 Cochrans Mill Road, Pittsburgh, Pennsylvania 15236, telephone (412) 386-5200, facsimile (412) 386-4089, e-mail npptlevents@cdc.gov. Information regarding documents that will be discussed at the meeting may be obtained from the NIOSH Web site using this link: http://www.cdc.gov/niosh/review/public/ using the NIOSH docket numbers listed above.

Dated: June 26, 2008.
James D. Seligman,
Chief Information Officer, Centers for Disease Control and Prevention.

[FR Doc. E8-15107 Filed 7-2-08; 8:45 am]

BILLING CODE 4163-19-P